FEDERAL COMMUNICATIONS COMMISSION

47 CFR Part 73

[DA 00-1159; MM Docket No. 98-151; RM-9320, RM-9653]

Radio Broadcasting Services; Douglas and Guernsey, Wyoming

AGENCY: Federal Communications Commission.

ACTION: Final rule.

SUMMARY: The Commission, at the request of Mountain Tower Broadcasting, allots Channel 223C1 to Douglas, Wyoming, as the community's second FM service, and third local aural service, and, at the request of Mount Rushmore Broadcasting, Inc., allots Channel 265A to Douglas as a third local FM fourth local aural service, and Channel 281A at Guernsey, Wyoming, as the community's first local aural service. See 63 FR 44601 (August 20, 1998). Channel can be allotted to Douglas in compliance with the Commission's minimum distance separation requirements, with respect to domestic allotments, with a site restriction of 27.8 kilometers (17.3 miles) at coordinates 42-20-19 and 105-05-05. Channel 265A can be allotted at Douglas without the imposition of a site restriction, at coordinates 42-45-18 and 105-24-18 and Channel 281A can be allotted at Guernsey without the imposition of a site restriction, at coordinates 42-16-00 and 104-44-42. Filing windows for Channels 223C1 and 265A at Douglas and 281A at Guernsey will not be opened at this time. Instead, the issue of opening a filing window for each channel will be addressed by the Commission in a subsequent Order.

DATES: Effective July 10, 2000.

FOR FURTHER INFORMATION CONTACT: Victoria M. McCauley, Mass Media Bureau, (202) 418-2180.

SUPPLEMENTARY INFORMATION: This is a synopsis of the Commission's Report and Order, MM Docket No. 98-151, adopted May 17, 2000, and released May 26, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

73.202 [Amended]

2. Section 73.202(b), the Table of FM Allotments under Wyoming, is amended by adding Channels 223C1 and 265A at Douglas, and Guernsey, Channel 281A.

Federal Communications Commission.
John A. Karousos,
Chief, Allocations Branch, Policy and Rules Division, Mass Media Bureau.

[FR Doc. 00-14377 Filed 6-7-00; 8:45 am]

BILLING CODE 6712-01-P